JOINT BOARD FOR THE ENROLLMENT OF ACTUARIES

20 CFR Part 901

[TD 9517]

RIN 1545-BC82

Regulations Governing the Performance of Actuarial Services Under the Employee Retirement Income Security Act of 1974; Correction

AGENCY: Joint Board for the Enrollment of Actuaries.

ACTION: Correction to final regulations.

SUMMARY: This document contains corrections to final regulations (TD 9517) that were published in the Federal Register on Thursday, March 31, 2011 (76 FR 17762) relating to the enrollment of actuaries.

DATES: This correction is effective on December 28, 2011, and is applicable on March 31, 2011.

FOR FURTHER INFORMATION CONTACT: Patrick McDonough, Executive Director, Joint Board for the Enrollment of Actuaries, at (202) 622-8229 (not a toll-free number).

SUPPLEMENTARY INFORMATION:

Background

The final regulations (TD 9517) that are the subject of this correction are under section 3042 of the Employee Retirement Income Security Act of 1974 (88 Stat. 829), Public Law 93-406 (ERISA).

Need for Correction

As published, final regulations (TD 9517) contain errors that may prove to be misleading and are in need of clarification.

Correction of Publication

Accordingly, the publication of the final regulations (TD 9517) which were the subject of FR Doc. 2011-7573 is corrected as follows:

On page 17762, column 1, in the preamble, under the paragraph heading “Paperwork Reduction Act”, last paragraph of the column, fourth line, the language “901.11(f)(2)(D), 901.11(f)(2)(G) and (H),” is corrected to read “901.11(f)(2)(i)(D), 901.11(f)(2)(i)(G) and (H),”.

Guy R. Traynor,
Acting Chief, Publications and Regulations Branch, Legal Processing Division, Associate Chief Counsel, (Procedure and Administration).

[FR Doc. 2011-33197 Filed 12-27-11; 8:45 am]

BILLING CODE 4810-25-P